DEPARTMENT OF ENERGY

Federal Energy Regulatory Commission

[Docket No. EL12-101-000]

New York Association of Public Power v. Niagara Mohawk Power Corporation; Notice of Complaint

Take notice that on September 11, 2012, pursuant to Rule 206 of the Federal Energy Regulatory Commission's (Commission) Rules of Practice and Procedure, 18 CFR 385.206 and section 206 of the Federal Power Act, 16 U.S.C. 824(e) and 825(e), New York Association of Public Power (Complainant) filed a formal complaint against Niagara Mohawk Power (Respondent) alleging that, the Respondent's return on common equity (ROE) currently reflected in the New York Independent System Operator, Inc's (NYISO) Open Access Transmission Tariff (OATT) rate is unjust and unreasonable. Complainant request that the Commission: (1) Institute paper hearing procedures to investigate the ROE and establish a just and reasonable equity return to be reflected in rates for transmission service provided over facilities owned by the Respondent under the NYISO OATT; (2) establish the earliest possible refund effective date (i.e., the date of this Complaint), consistent with Commission policy; and (3) direct the Respondent to make refunds reflecting the difference between transmission rates reflecting an 11.5 percent ROE and rates reflecting a just and reasonable ROE.

The Complainant certifies that copies of the complaint were served on the contacts for the Respondent as listed in the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5 p.m. Eastern Time on October 1, 2012.

Dated: September 12, 2012.
Nathaniel J. Davis, Sr.,
Deputy Secretary.

[FR Doc. 2012-22947 Filed 9-17-12; 8:45 am]

BILLING CODE 6717-01-P